DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of Pub. L. 103-182) are eligible to apply to NAFTA-TAA under Subchapter D of the Trade Act because of increased imports from or the shift in production to Mexico or Canada.

The petitioners or any other persons showing a substantial interest in the subject matter of the investigations may request a public hearing with the director of DTAA at the U.S. Department of Labor (DOL) in Washington, DC provided such request if filed in writing with the Director of DTAA not later than July 31, 2000.

Also, interested persons are invited to submit written comments regarding the subject matter of the petitions to the Director of DTAA at the address shown below not later than July 31, 2000.

Petitions filed with the Governors are available for inspection at the Office of the Director, DTAA, ETA, DOL, Room C-4318, 200 Constitution Avenue, NW, Washington, DC 20210.

Signed at Washington, DC this 10th day of July, 2000.
Grant D. Beale,
Program Manager, Division of Trade Adjustment Assistance.

Appendix
Subject firm | Location | Date received at Governor's office | Petition No. | Articles produced
Hearst Entertainment (Wkrs) | Los Angeles, CA | 05/26/2000 | NAFTA-3,960 | television movies.
Cast Alloys (Wkrs) | Northridge, CA | 06/05/2000 | NAFTA-3,961 | golf club heads.
Texas Instruments (Co.) | Versailles, KY | 06/05/2000 | NAFTA-3,962 | pressure controls.
Sagaz Industries (Wkrs) | Miami, FL | 06/07/2000 | NAFTA-3,963 | car seat covers.
Seton Company (Co.) | Saxton, PA | 06/07/2000 | NAFTA-3,964 | leather.
Memphis Chair (Wkrs) | Gainesboro, TN | 06/08/2000 | NAFTA-3,965 | chairs.
O'Neill (Co.) | San Francisco, CA | 06/07/2000 | NAFTA-3,966 | wet suits & life jackets.
ALCO Controls (Co.) | Wytheville, VA | 06/08/2000 | NAFTA-3,967 | valve products.
Mar Kel Lighting (IAMAW) | Paris, TN | 06/12/2000 | NAFTA-3,968 | ceramic & metal lamps.
UFE (Wkrs) | El Paso, TX | 06/05/2000 | NAFTA-3,969 | automotive ignition parts.
Craft House (Co.) | Kalkaska, MI | 06/08/2000 | NAFTA-3,970 | children's toys.
Edgewater Steel (Wkrs/) | Oakmont, PA | 06/12/2000 | NAFTA-3,971 | forded rings & railroad wheels.
Ametek U.S. Guage Division (IAMAW) | Sellersville, PA | 06/06/2000 | NAFTA-3,972 | guages.
Grand Haven Brass Foundry (PACE) | Grand Haven, MI | 06/16/2000 | NAFTA-3,973 | plumbing fixtures.
Hitachi Koki Imaging Solutions (Wkrs) | Simi Valley, CA | 06/07/2000 | NAFTA-3,974 | data products.
Shorewood Packaging Corp. of Alabama (Wkrs) | Andalusia, AL | 06/19/2000 | NAFTA-3,975 | customized packaging.
I.C. Isaacs (Co.) | Raleigh, MS | 06/08/2000 | NAFTA-3,976 | jeans.
Eagle River Knits (Co.) | Monroe, NC | 06/13/2000 | NAFTA-3,977 | circular knitted fabric.
Key Industries (Co.) | Buffalo, MO | 06/07/2000 | NAFTA-3,978 | work clothes.
VDO North America (Co.) | Cheshire, CT | 05/19/2000 | NAFTA-3,979 | automotive Components.
Morton Forest (Co.) | Morton, WA | 06/16/2000 | NAFTA-3,980 | lumber.
Tweco Products (Co.) | Wichita, KS | 06/02/2000 | NAFTA-3,981 | welding accessories.
Friedman Bag (Wkrs) | Portland, OR | 06/21/2000 | NAFTA-3,982 | textile bags.
Four Seasons of Georgetown (Co.) | Georgetown, SC | 06/22/2000 | NAFTA-3,983 | screen print garments.
La Crosse Footwear (Wkrs) | Clintonville, WI | 06/20/2000 | NAFTA-3,984 | ladies tops.
Frink American (IAMAW) | Clayton, NY | 06/12/2000 | NAFTA-3,985 | snow plows.
Tri Quest Precision Plastic (Co.) | Vancouver, WA | 06/22/2000 | NAFTA-3,986 | plastics.
K and R Sportswear (Co.) | Spring Hope, NC | 06/26/2000 | NAFTA-3,987 | sewing & finishing apparel.
P.H. Glatfelter (Wkrs) | Pisgah Forest, NC | 06/26/2000 | NAFTA-3,988 | printing paper, tea bags, bible paper.
Indiana Knitwear (Wkrs) | Greanfield, TN | 06/26/2000 | NAFTA-3,989 | men's & boys' knits shirts & pants.
Collins Products (IAM) | Klamath Falls, OR | 06/23/2000 | NAFTA-3,990 | plywood.
Sims Deltec (Co.) | St. Paul, MN | 05/03/2000 | NAFTA-3,991 | disposable medical devices.
Mascotech Forming Technologies (USWA) | Ypslanti, MI | 06/01/2000 | NAFTA-3,992 | screw machine products.
Whitehall Leather Company (Co.) | Whitehall, MI | 06/27/2000 | NAFTA-3,993 | raw animal hides.
WildFire Pacific () | Kent, WA | 06/30/2000 | NAFTA-3,994 | Fire Fight Apparatus.
Johns Manville Int'l. (Co.) | Saco, ME | 06/29/2000 | NAFTA-3,995 | Foam Insulation
Federal Mogul Corporation (UAW) | Milan, MI | 05/31/2000 | NAFTA-3,996 | fuel pump soals.
PL Garment Finishers () | McRae, GA | 06/23/2000 | NAFTA-3,997 | Blue Jeans.
Trinity Industries (UAW) | Mt. Orab, OH | 04/19/2000 | NAFTA-3,998 | railcars.
Johnson Controls, Inc. (IBEW) | Goshen, IN | 06/30/2000 | NAFTA-3,999 | machining equipment.
Springs Industries, Inc. (Co.) | Griffin, GA | 06/28/2000 | NAFTA-4,000 | knitted infant & toddler apparel.
Flowserve Corporation (Wkrs) | Temecula, CA | 06/26/2000 | NAFTA-4,001 | shaft seals.
American Meter () | Erie, PA | 06/28/2000 | NAFTA-4,002 | Radial Flow Valve Machining and Assembly.
Wallowa Forest Products (Wkrs) | Wallowa, OR | 06/28/2000 | NAFTA-4,003 | Demensional lumber, chips and hog fuel.
McGuire Nicholas (Wkrs) | Commerce, CA | 06/15/2000 | NAFTA-4,004 | business products.
Graphic Vinyl Products (Wkrs) | Newark, NY | 06/30/2000 | NAFTA-4,005 | CD cases.
Chipman Union (Co.) | Belmont, NC | 07/03/2000 | NAFTA-4,006 | socks.
Key Industries (Co.) | Fort Scott, KS | 06/30/2000 | NAFTA-4,007 | work clothes.
ITT Industries (Co.) | Tawas City, MI | 06/29/2000 | NAFTA-4,008 | vacuum harnesses.

[FR Doc. 00-18361 Filed 7-19-00; 8:45 am]

BILLING CODE 4510-30-M